COMMODITY FUTURES TRADING COMMISSION

Technology Advisory Committee Meeting

This is to give notice, pursuant to Section 10(a) of the Federal Advisory Committee Act, 5 U.S.C. App. 2, section 10(a), that the Commodity Futures Trading Commission's Technology Advisory Committee will conduct a public meeting on Thursday, April 28, 2005. The meeting will take place in the first floor hearing room of the Commission's Washington, DC headquarters, Three Lafayette Centre, 1155 21st Street, NW., Washington, DC 20581. The meeting will begin at 1 p.m., and last until 4 p.m. The purpose of the meeting is to discuss technology-related issues involving the financial services and commodity markets.

The agenda will consist of the following:

(1) What constitutes “prior art” in the patents process.

(2) Intellectual property in trading and settlements technology.

(3) Restrictions on the usage of exchange settlement prices.

(4) Market data piracy.

The meeting is open to the public. Any member of the public who wishes to file a written statement with the Advisory Committee should mail a copy of the statement to the attention of: Technology Advisory Committee, c/o Acting Chairman Sharon Brown-Hruska, Commodity Futures Trading Commission, Three Lafayette Centre, 1155 21st Street, NW., Washington, DC 20581, before the meeting. Members of the public who wish to make oral statements should inform Acting Chairman Brown-Hruska in writing at the foregoing address at least three business days before the meeting. Reasonable provision will be made, if time permits, for oral presentations of no more than five minutes each in duration. For further information concerning this meeting, please contact Ananda Radhakrishnan, Counsel to Acting Chairman Brown-Hruska, (202) 418-5188.

Issued by the Commission in Washington, DC on April 7, 2005.
Jean A. Webb,
Secretary of the Commission.

[FR Doc. 05-7296 Filed 4-11-05; 8:45 am]

BILLING CODE 6351-01-M